FEDERAL RETIREMENT THRIFT INVESTMENT BOARD

Notice of Board Meeting

DATES: June 27, 2023 at 10:00 a.m.

ADDRESSES: Telephonic. Dial-in (listen only) information: Number: 1-202-599-1426, Code: 127 249 097#; or via web: https://teams.microsoft.com/l/meetup-join/19%3ameeting_NzA5MWQ3NTktNzBmMC00ODQxLTg2N2EtYzRjZTJkMDI4ZDNj%40thread.v2/0?context=%7b%22Tid%22%3a%223f6323b7-e3fd-4f35-b43d-1a7afae5910d%22%2c%22Oid%22%3a%221a441fb8-5318-4ad0-995b-f28a737f4128%22%7d.

FOR FURTHER INFORMATION CONTACT: Kimberly Weaver, Director, Office of External Affairs, (202) 942-1640.

SUPPLEMENTARY INFORMATION:

Board Meeting Agenda

Open Session

1. Approval of the May 23, 2023 Board Meeting Minutes

2. Recordkeeper Service Update (Accenture Federal Services)

3. Monthly Reports

(a) Participant Activity Report

(b) Legislative Report

(c) Investment Report

4. Quarterly Reports

(d) Vendor Risk Management

5. OTS Annual Presentation

6. DOL Presentation

Closed Session

7. Information Covered Under 5 U.S.C. 552b(c)(10)

Authority: 5 U.S.C. 552b(e)(1).

Dated: June 12, 2023.
Dharmesh Vashee,
General Counsel, Federal Retirement Thrift Investment Board.

[FR Doc. 2023-12821 Filed 6-14-23; 8:45 am]

BILLING CODE P